DEPARTMENT OF HEALTH AND HUMAN SERVICES

Notice of a Department of Health and Human Services Public Meeting and Request for Comments on Matters Related to the Protection of Human Subjects and Research Studying Standard of Care Interventions; Amended Notice of Meeting

AGENCY: Office of the Secretary, Department of Health and Human Services.

ACTION: Notice.

SUMMARY: On June 26, 2013, the Department of Health and Human Services (HHS) published in the Federal Register an announcement of a public meeting to be held on August 28, 2013, to discuss how certain provisions of the HHS protection of human subjects should be applied to research studying one or more interventions which are used as standard of care treatment in the non-research context (78 FR 38343).

In the June 26, 2013 meeting announcement, HHS stated that presenters will be scheduled to speak at the public meeting in the order in which they register. Notice is hereby provided that HHS may group presenters according to the topic of their presentation.

FOR FURTHER INFORMATION CONTACT: Dr. Jerry Menikoff, Director, Office for Human Research Protections, Department of Health and Human Services, 1101 Wootton Parkway, Suite 200; Rockville, MD 20852, 240-453-6900; email Jerry.Menikoff@hhs.gov.

DATED: August 1, 2013.
Howard K. Koh,
Assistant Secretary for Health.

[FR Doc. 2013-19056 Filed 8-6-13; 8:45 am]

BILLING CODE 4150-36-P